DEPARTMENT OF LABOR

Employment and Training Administration vv

[TA-W-71,073]

GMAC Insurance, Winston Salem, NC; Notice of Termination of Investigation

Pursuant to Section 223 of the Trade Act of 1974, as amended, an investigation was initiated in response to a petition filed on June 9, 2009, on behalf of workers of GMAC Insurance, Winston Salem, North Carolina.

The petitioning group of workers is covered by an active certification, (TA-W-70,945) which expires on June 17, 2011. Consequently, further investigation in this case would serve no purpose, and the investigation has been terminated.

Signed at Washington, DC this 27th day of August 2009.
Elliott S. Kushner,
Certifying Officer, Division of Trade Adjustment Assistance.

[FR Doc. E9-29169 Filed 12-7-09; 8:45 am]

BILLING CODE 4510-FN-P